DEPARTMENT OF DEFENSE

Office of the Secretary

[Docket ID DOD-2016-OS-0111]

Privacy Act of 1974; System of Records

AGENCY: Defense Threat Reduction Agency/USSTRATCOM Center for Combating Weapons of Mass Destruction (DTRA/SCC-WMD), DoD.

ACTION: Notice to alter a system of records.

SUMMARY: Pursuant to the Privacy Act of 1974, and Office of Management and Budget (OMB) Circular No. A-130, notice is hereby given that the DTRA/SCC-WMD proposes to alter a system of records, HDTRA 028, entitled “AtHoc Emergency Mass-Notification System,” last published at 81 FR 9174, February 24, 2016. This system of records exists to notify the workforce quickly with information in times of emergency (snow, fire, hurricane, or other unforeseen situations that cause the Fort Belvoir/McNamara Complex to be closed). This alteration incorporates the applicable DoD Routine Uses in the notice to provide clarity for the public. The authorities were also updated to remove extraneous references. Lastly, the system name was updated to provide a title that defines its use and purpose.

DATES: Comments will be accepted on or before December 14, 2016. This proposed action will be effective the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Pamela Andrews, Senior Analyst Freedom of Information/Privacy Act Office, 8725 John J. Kingman Road, Fort Belvoir, VA, 22060, 703-767-1792.

SUPPLEMENTARY INFORMATION: The DTRA/SCC-WMD's notices for systems of records subject to the Privacy Act of 1974 (5 U.S.C. 552a), as amended, have been published in the Federal Register and are available from the address in the FOR FURTHER INFORMATION CONTACT or from the Defense Privacy, Civil Liberties, and Transparency Division Web site at http://dpcld.defense.gov/.

The proposed systems reports, as required by 5 U.S.C. 552a(r) of the Privacy Act, as amended, were submitted on October 19, 2016, to the House Committee on Oversight and Government Reform, the Senate Committee on Homeland Security and Governmental Affairs, and the Office of Management and Budget (OMB) pursuant to paragraph 4 of Appendix I to OMB Circular No. A-130, “Federal Agency Responsibilities for Maintaining Records About Individuals,” revised November 28, 2000 (December 12, 2000 65 FR 77677).

Dated: November 8, 2016.
Aaron Siegel,
Alternate OSD Federal Register Liaison Officer, Department of Defense.

HDTRA 028

System Name:

AtHoc Emergency Mass-Notification System (February 24, 2016, 81 FR 9174)

Changes:

* * * * *

System Name:

Delete entry and replace with “DTRA Mass Notification System.”

* * * * *

Authority for maintenance of the system:

Delete entry and replace with “10 U.S.C. 136, Under Secretary of Defense for Personnel and Readiness; DoD Directive 5124.02, Under Secretary of Defense for Personnel and Readiness (USD (P&R); DoD Instruction (DoDI) 3020.42, Defense Continuity Plan Development; DoDI 3020.52, DoD Installation Chemical, Biological, Radiological, Nuclear, and High-Yield Explosive (CBRNE) Preparedness Standards; and DoDI 6055.17, DoD Installation Emergency Management (IEM) Program.”

* * * * *

Routine uses of records maintained in the system, including categories of users and the purposes of such uses:

Delete entry and replace with “In addition to those disclosures generally permitted under 5 U.S.C. 552a(b) of the Privacy Act of 1974, as amended, the records contained herein may be disclosed outside the DoD as a routine use pursuant to 5 U.S.C. 552a(b)(3) as follows:

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.”

* * * * *

[FR Doc. 2016-27302 Filed 11-10-16; 8:45 am]

BILLING CODE 5001-06-P